DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than March 10, 2008.

Interested persons are invited to submit written comments regarding the subject matter of the investigations to the Director, Division of Trade Adjustment Assistance, at the address shown below, not later than March 10, 2008.

The petitions filed in this case are available for inspection at the Office of the Director, Division of Trade Adjustment Assistance, Employment and Training Administration, U.S. Department of Labor, Room C-5311, 200 Constitution Avenue, NW., Washington, DC 20210.

Signed at Washington, DC, this 20th day of February 2008.
Ralph DiBattista,
Director, Division of Trade Adjustment Assistance.

Appendix.—TAA Petitions Instituted Between 2/11/08 and 2/15/08
TA-W | Subject firm (petitioners) | Location | Date of institution | Date of petition
62822 | Rock-Tenn Company (Comp) | Chicopee, MA | 02/11/08 | 02/11/08
62823 | Sandpiper Knitting, Inc. (Comp) | Pageland, SC | 02/11/08 | 02/08/08
62824 | Jewel America, Inc. (Wkrs) | New York, NY | 02/11/08 | 02/09/08
62825 | Smart Parts, Inc. (Comp) | Latrobe, PA | 02/11/08 | 02/09/08
62826 | Sights Denim System (State) | Henderson, KY | 02/11/08 | 02/11/08
62827 | Peak Medical, Inc. (Wkrs) | Hillsborough, NC | 02/11/08 | 02/07/08
62828 | JMS Converters (54914) | Appleton, WI | 02/12/08 | 01/28/08
62829 | Minco Manufacturing, LLC (Comp) | Colorado Springs, CO | 02/12/08 | 02/07/08
62830 | Prestige Fabricators, Inc. (Plants #1, #2, and #3) (Comp) | Asheboro, NC | 02/12/08 | 02/11/08
62831 | Gaming Partners International Corporation (Comp) | Las Vegas, NV | 02/12/08 | 02/08/08
62832 | GAF Corporation (IAMAW) | Quakertown, PA | 02/12/08 | 01/25/08
62833 | MegTec Systems (AFL-CIO) | DePere, WI | 02/12/08 | 02/11/08
62834 | Diamond Electric Manufacturing (State) | Dundee, MI | 02/12/08 | 02/11/08
62835 | Panasonic Shikoju Electronics Corp. of America (Comp) | Vancouver, WA | 02/12/08 | 02/11/08
62836 | A.T. Cross Company (Comp) | Lincoln, RI | 02/12/08 | 02/12/08
62837 | Pentair Water (IAMAW) | Ashland, OH | 02/12/08 | 01/29/08
62838 | Delphi Corporation (UAW) | Athens, AL | 02/13/08 | 02/11/08
62839 | Inverness Corporation (Wkrs) | Fairlawn, NJ | 02/13/08 | 02/02/08
62840 | Superior Studs (Comp) | Glide, OR | 02/13/08 | 01/14/08
62841 | Rock of Ages Corp. (Comp) | Graniteville, VT | 02/13/08 | 01/17/08
62842 | Norton Lumber Co., Inc. (Comp) | White City, OR | 02/13/08 | 02/12/08
62843 | Dematic Corporation (UAW) | Grand Rapids, MI | 02/13/08 | 02/08/08
62844 | St. George Crystal, Ltd. (Comp) | Jeannette, PA | 02/13/08 | 02/12/08
62845 | Durham Manufacturing Co., Inc. (State) | Durham, CT | 02/14/08 | 02/13/08
62846 | Baldwin Piano, Inc. (State) | Trumann, AR | 02/14/08 | 02/13/08
62847 | Columbia University (Wkrs) | New York, NY | 02/14/08 | 02/07/08
62848 | Android Industries (Wkrs) | Springfield, OH | 02/14/08 | 01/30/08
62849 | Newpage Corporation (State) | Stamford, CT | 02/14/08 | 02/13/08
62850 | Magnesium Aluminum Corporation (Comp) | Cleveland, OH | 02/14/08 | 02/13/08
62851 | Auto Truck Transport (Wkrs) | Mt. Holly, NC | 02/14/08 | 02/11/08
62852 | FCI USA, Inc. (Comp) | Mt. Union, PA | 02/14/08 | 02/14/08
62853 | Irving Forest Products (Union) | Ashland, ME | 02/15/08 | 01/28/08
62854 | US Security Associates, Inc. (State) | Springfield, MO | 02/15/08 | 01/25/08
62855 | WestPoint Home New York Sales Offices (Comp) | New York, NY | 02/15/08 | 02/14/08
62856 | Honeywell Process Solutions (Comp) | Phoenix, AZ | 02/15/08 | 02/13/08
62857 | Circuit Images, Inc. (Wkrs) | Boulder, CO | 02/15/08 | 02/14/08
62858 | Household Utilities Inc. (HUI) (Wkrs) | Kiel, WI | 02/15/08 | 02/13/08

[FR Doc. E8-3792 Filed 2-28-08; 8:45 am]

BILLING CODE 4510-FN-P